DEPARTMENT OF TRANSPORTATION

Federal Aviation Administration

14 CFR Part 71

[Docket No. FAA-2022-1002; Airspace Docket No. 22-ASW-20]

RIN 2120-AA66

Proposed Amendment and Revocation of Class E Airspace; Bartlesville and Miami, OK

AGENCY: Federal Aviation Administration (FAA), DOT.

ACTION: Notice of proposed rulemaking (NPRM).

SUMMARY: This action proposes to amend and remove Class E airspace at Bartlesville and Miami, OK. The FAA is proposing this action due to airspace reviews conducted as part of the decommissioning of the Oswego very high frequency (VHF) omnidirectional range (VOR) as part of the VOR Minimal Operational Network (MON) Program. The name and geographic coordinates of the airports and navigation aids would also be updated to coincide with the FAA's aeronautical database.

DATES: Comments must be received on or before October 7, 2022.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2022-1002/Airspace Docket No. 22-ASW-20 at the beginning of your comments. You may also submit comments through the internet at www.regulations.gov. You may review the public docket containing the proposal, any comments received, and any final disposition in person in the Dockets Office between 9:00 a.m. and 5:00 p.m., Monday through Friday, except federal holidays.

FAA Order JO 7400.11F, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class E surface airspace and Class E airspace extending upward from 700 feet above the surface at Bartlesville Municipal Airport, Bartlesville, OK; amend the Class E airspace extending upward from 700 feet above the surface at Miami Regional Airport, Miami, OK; and remove the Class E airspace extending upward from 700 feet above the surface at Jane Phillips Medical Center Heliport, Bartlesville, OK, and Baptist Regional Health Center Heliport, Miami, OK, to support instrument flight rule operations at these airports.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2022-1002/Airspace Docket No. 22-ASW-20.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by:

Amending the Class E airspace surface airspace to within a 4.1-mile (decreased from 4.3-mile) radius of Bartlesville Municipal Airport, Bartlesville, OK; and within 1 mile each side of the 359° bearing from the airport extending from the 4.1-mile radius to 4.6 miles north of the airport; and within 1.5 miles each side of the Bartlesville VOR/DME 168° radial extending from the 4.1-mile radius of the airport to 4.4 miles south of the airport; and within 1 mile each side of the 179° bearing from the airport extending from the 4.1-mile radius to 4.5 miles south of the airport; removing the exclusionary language from the airspace legal description as there is no technical requirement for this area and it imposes on protected airspace needed for the current public instrument procedures; updating the geographic coordinates of the airport to coincide with the FAA's aeronautical database; and replacing the outdated terms “Notice to Airmen” with “Notice to Air Missions” and “Airport/Facility Directory” with “Chart Supplement”;

Amending the Class E airspace extending upward from 700 feet above the surface to within a 6.6-mile (decreased from a 6.8-mile) radius of Bartlesville Municipal Airport; amending the extension north of the airport to within 4 miles (increased from 2.2 miles) each side of the 359° bearing from the Bartlesville Municipal: RWY 17-LOC (previously Dewie LOM) extending from the 6.6-mile (decreased from 6.8-mile) radius of the airport to 14.1 miles (increased from 11.7 miles) north of the airport; amending the extension south of the airport to 4.1 miles east and 7.6 miles west (previously 1.6 miles each side) of the Bartlesville VOR/DME 168° (previously 176°) radial extending from the 6.6-mile (decreased from 6.8-mile) radius to 15.5 (increased from 11.3) miles south of the Bartlesville VOR/DME (previously the airport); removing the extension north of the airport from the Bartlesville VOR/DME as it is no longer needed; removing the Jane Phillips Medial Center Heliport point in space and associated airspace as the associated instrument procedures have been cancelled and the airspace is no longer required; removing the Dewie LOM from the airspace legal description as it is no longer required; and updating the geographic coordinates of the airport and the Bartlesville VOR/DME to coincide with the FAA's aeronautical database;

And amending the Class E airspace extending upward from 700 feet above the surface to within a 6.5-mile (decreased from a 7.3-mile) radius of Miami Regional Airport, Miami, OK; removing the Baptist Regional Health Center Heliport point in space coordinates and associated airspace from the airspace legal description as the associated instrument procedures have been cancelled and the airspace is no longer required; and updating name of the airport to coincide with the FAA's aeronautical database.

This action is due to an airspace review conducted as part of the decommissioning of the Oswego VOR, which provided navigation information for the instrument procedures at these airports, as part of the VOR MON Program.

Class E airspace designations are published in paragraphs 6002 and 6005, respectively, of FAA Order JO 7400.11F, dated August 10, 2021, and effective September 15, 2021, which is incorporated by reference in 14 CFR 71.1. The Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order JO 7400.11F, Airspace Designations and Reporting Points, dated August 10, 2021, and effective September 15, 2021, is amended as follows:

Paragraph 6002 Class E Airspace Areas Designated as Surface Areas.

* * * * *

ASW OK E2 Bartlesville, OK [Amended]

Bartlesville Municipal Airport, OK

(Lat. 36°45′48″ N, long. 96°00′40″ W)

Bartlesville VOR/DME

(Lat. 36°50′04″ N, long. 96°01′06″ W)

Within a 4.1-mile radius of Bartlesville Municipal Airport; and within 1 mile each side of the 359° bearing from the airport extending from the 4.1-mile radius of the airport to 4.6 miles north of the airport; and within 1.5 miles each side of the Bartlesville VOR/DME 168° radial extending from the 4.1-mile radius of the airport to 4.4 miles south of the airport; and within 1 mile each side of the 179° bearing from the airport extending from the 4.1-mile radius of the airport to 4.5 miles south of the airport. This Class E airspace area is effective during the specific dates and times established in advance by a Notice to Air Missions. The effective date and time will thereafter be continuously published in the Chart Supplement.

Paragraph 6005 Class E Airspace Areas Extending Upward From 700 Feet or More Above the Surface of the Earth

* * * * *

ASW OK E5 Bartlesville, OK [Amended]

Bartlesville Municipal Airport, OK

(Lat. 36°45′48″ N, long. 96°00′40″ W)

Bartlesville Municipal: RWY 17-LOC

(Lat. 36°45′11″ N, long. 96°00′39″ W)

Bartlesville VOR/DME

(Lat. 36°50′04″ N, long. 96°01′06″ W)

That airspace extending upward from 700 feet above the surface within a 6.6-mile radius of Bartlesville Municipal Airport; and within 4 miles each side of the 359° bearing from the Bartlesville Municipal: RWY 17-LOC extending from the 6.6-mile radius of the airport to 14.1 miles north of the airport; and within 4.1 miles east and 7.6 miles west of the Bartlesville VOR/DME 168° radial extending from the 6.6-mile radius of the airport to 15.5 miles south of the Bartlesville VOR/DME.

* * * * *

ASW OK E5 Miami, OK [Amended]

Miami Regional Airport, OK

(Lat. 36°54′33″ N, long. 94°53′15″ W)

That airspace extending upward from 700 feet above the surface within a 6.5-mile radius of Miami Regional Airport.

Issued in Fort Worth, Texas, on August 17, 2022.
Martin A. Skinner,
Acting Manager, Operations Support Group, ATO Central Service Center.

[FR Doc. 2022-18013 Filed 8-22-22; 8:45 am]

BILLING CODE 4910-13-P